DEPARTMENT OF ENERGY

Federal Energy Regulatory Commission

Notice of Request To Use Alternative Procedures in Preparing a License Application

September 25, 2002.

Take notice that the following request to use alternative procedures to prepare a license application has been filed with the Commission.

a. Type of Application: Request to use alternative procedures to prepare a new license application.

b. Project No.: 620.

c. Date filed: July 6, 2002.

d. Applicant: NorQuest Seafoods, Inc.

e. Name of Project: Chignik Project.

f. Location: On Indian Creek, a tributary of Chignik Bay, in Chignik, Alaska. The project occupies 38.89 acres of United States lands under the supervision of the U.S. Bureau of Land Management.

g. Filed Pursuant to: Federal Power Act, 16 U.S.C. 791(a)—825(r).

h. Applicant Contact: Daniel Hertrich, Polarconsult Alaska, Inc., 1503 W. 33rd Avenue, #310, Anchorage, AK 99503, (907) 258-2420.

i. FERC Contact: John Mudre at (202) 502-8902; e-mail john.mudre@ferc.gov.

j. Deadline for Comments: 30 days from the date of this notice.

All documents (original and eight copies) should be filed with Magalie R. Salas, Secretary, Federal Energy Regulatory Commission, 888 First Street, NE, Washington, DC 20426.

Comments may be filed electronically via the Internet in lieu of paper. The Commission strongly encourages electronic filings. See 18 CFR 385.2001(a)(1)(iii) and the instructions on the Commission's Web site (http://www.ferc.gov) under the “e-Filing” link. k. The existing project consists of a 16.5-foot-high timber dam at the outlet of Upper Lake, creating a reservoir of approximately 8 acres at the maximum reservoir elevation of 431 feet (local datum), a channel spillway, a 7,700-foot-long, 8-inch-diameter wood-stave and steel pipeline, a 60-kW generating unit inside the applicant's fish cannery, the generator leads, and appurtenant facilities. No new facilities are proposed. l. A copy of the request to use alternative procedures is available for review at the Commission in the Public Reference Room or may be viewed on the Commission's Web site at http://www.ferc.gov using the “FERRIS” link. Enter the docket number excluding the last three digits in the docket number field to access the document. For assistance, call (202) 502-8222 or for TTY, (202) 502-8659. A copy is also available for inspection and reproduction at the address in item h above. m. NorQuest Seafoods, Inc. has demonstrated that it has made an effort to contact all federal and state resources agencies, non-governmental organizations (NGO), and others affected by the project. NorQuest Seafoods, Inc. has also demonstrated that a consensus exists that the use of alternative procedures is appropriate in this case. NorQuest Seafoods, Inc. has submitted a communications protocol that is supported by the stakeholders.

The purpose of this notice is to invite any additional comments on NorQuest Seafoods, Inc.'s request to use the alternative procedures, pursuant to Section 4.34(i) of the Commission's regulations. Additional notices seeking comments on the specific project proposal, interventions and protests, and recommended terms and conditions will be issued at a later date. NorQuest Seafoods, Inc. will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

NorQuest Seafoods, Inc. has contacted federal and state resources agencies, NGOs, elected officials, flood control and downstream interests, environmental groups, business and economic development organizations, the boating industry, and members of the public regarding the Chignik Project. NorQuest Seafoods, Inc. intends to file 6-month progress reports during the alternative procedures process that leads to the filing of a license application by October 4, 2003.

Linwood A. Watson, Jr.,
Deputy Secretary.

[FR Doc. 02-24881 Filed 10-1-02; 8:45 am]

BILLING CODE 6717-01-P